OFFICE OF GOVERNMENT ETHICS

Proposed Collection; Comment Request for Modified OGE Form 450 Executive Branch Confidential Financial Disclosure Report

AGENCY: Office of Government Ethics (OGE).

ACTION: Notice.

SUMMARY: The Office of Government Ethics intends to modify the Executive Branch Confidential Financial Disclosure Report form (hereafter, OGE Form 450), to improve its clarity and design and change to some extent the information that it collects. After this first round notice and public comment period, OGE plans to submit a modified OGE Form 450 to the Office of Management and Budget (OMB) for review and three-year extension of approval under the Paperwork Reduction Act. The modified OGE Form 450 would be used for confidential financial disclosure reporting under OGE's proposed amended executive branch regulations, once those regulatory revisions are finalized.

DATES: Comments by the public and agencies on this proposal are invited and should be received by October 26, 2005.

ADDRESSES: You may submit comments to OGE by any of the following methods:

• E-Mail: usoge@oge.gov. For E-mail messages, the subject line should include the following reference: “OGE Form 450 Executive Branch Confidential Financial Disclosure Report Paperwork Comment.”

• FAX: 202-482-9237.

• Mail, Hand Delivery or Courier: Office of Government Ethics, Suite 500, 1201 New York Avenue, NW., Washington, DC 20005-3917, Attention: Mary T. Donovan.

FOR FURTHER INFORMATION CONTACT: Mary T. Donovan, Office of Government Ethics; telephone: 202-482-9232; TDD: 202-482-9293; FAX: 202-482-9237. A copy of the proposed modified OGE Form 450 may be obtained, without charge, by contacting Ms. Donovan.

SUPPLEMENTARY INFORMATION: The OGE Form 450 (OMB control number 3209-0006) collects information from covered department and agency officials as required under OGE's executive branchwide regulatory provisions in subpart I of 5 CFR part 2634. The OGE Form 450 serves as the uniform report form for collection, on a confidential basis, of financial information required by the OGE regulation from certain new entrant and incumbent employees of the Federal Government executive branch departments and agencies. Agency ethics officials then use the completed OGE Form 450 reports to conduct conflict of interest reviews and to resolve any actual or potential conflicts found.

The basis for the OGE regulation and the report form is two-fold. First, section 201(d) of Executive Order 12674 of April 12, 1989 (as modified by Executive Order 12731, 55 FR 42547 (October 19, 1990)) makes OGE responsible for the establishment of a system of nonpublic (confidential) financial disclosure by executive branch employees to complement the system of public financial disclosure under the Ethics in Government Act of 1978 (the “Ethics Act”), as amended, 5 U.S.C. appendix. Second, section 107(a) of the Ethics Act, 5 U.S.C. app., sec. 107(a), further provides authority for OGE as the supervising ethics office for the executive branch of the Federal Government to require that appropriate executive agency employees file confidential financial disclosure reports, “in such form as the supervising ethics office may prescribe.” The OGE Form 450, together with the underlying executive branchwide financial disclosure regulation (5 CFR part 2634), constitutes the basic report form OGE has prescribed for such confidential financial disclosure in the executive branch.

Proposed Modifications

OGE is proposing modifications to the OGE Form 450's design and content. In March 2003, OGE distributed a survey to executive branch ethics officials which sought input on possible improvements to the financial disclosure system, the results of which proved beneficial in identifying what information needs to be reported in order for an agency ethics official to perform a thorough conflict of interest review. After reviewing the results of the survey and re-examining the current reporting requirements, OGE is proposing to simplify the confidential reporting and filing process.

Modifications relating to form design are specifically intended to make the OGE Form 450 easier to complete on a computer. These modifications include changing the form layout from landscape to portrait. In addition, the form will be a PDF file that can be filled in electronically through the use of Adobe Reader Version 6.0. These modifications also are intended to make completion of the OGE Form 450 easier overall by simplifying the instructions and placing them on the same pages as the reporting schedules; adding space for reporting information; enlarging the font size; and separating reporting schedules for earned and investment income. Contacting filers with follow-up questions will be facilitated by the addition of space for the filer's e-mail address.

Modifications to the content of the OGE Form 450 parallel changes being proposed to 5 CFR part 2634. See the proposed rule being published concurrently in the Federal Register with this notice. Under both the current and proposed rule, the information required to be collected includes assets and sources of income, liabilities, outside positions, employment agreements and arrangements, and gifts and travel reimbursements, subject to certain thresholds and exclusions.

The proposed modifications to the OGE Form 450 reflect the changes in the confidential financial disclosure regulation if adopted as final. Generally, these changes to the information that will have to reported on the OGE Form 450 include: Eliminating the reporting of diversified mutual funds, eliminating dates of honoraria, eliminating dates of agreements and arrangements (other than those for future employment), and eliminating the reporting of types of income that assets earned (i.e., dividends, capital gains, or interest), and revising reporting requirements relating to liabilities by eliminating the requirement to report student loans, mortgages on rental property, and credit card debt if the loans are granted on terms made available to the general public.

Also, OGE is proposing to incorporate in the modified OGE Form 450 the new aggregation threshold of more than $305 for the reporting of gifts and travel reimbursements received from one source during the year by regular employee annual filers, with an exception for any items valued at $122 or less that are not counted toward the overall threshold. These new thresholds are based on the General Services Administration's (GSA's) increase in “minimal value” under the Foreign Gifts and Decorations Act to $305 or less for 2005-2007, to which the thresholds are linked by the Ethics Act and OGE regulation. See GSA's redefinition at 70 FR 2317-2318 (January 12, 2005), section 102(a)(2)(A) and (B) of the Ethics Act, OGE's regulatory adjustment of the gifts/reimbursements thresholds for both public and confidential reports at 70 FR 12111-12112 (March 11, 2005), and OGE DAEOgram DO-05-007 of March 17, 2005, all available on OGE's Web site at http://www.usoge.gov.

Finally, OGE is updating the Privacy Act Statement summary of the sixth listed routine use (see 68 FR 3097-3109, at 3102 (January 22, 2003)).

Web Site Distribution of Blank Forms

OGE will continue to make the OGE Form 450 available to departments and agencies and their reporting employees through the Forms, Publications & Other Ethics Documents section of OGE's Web site (http://www.usoge.gov). This method allows employees to prepare and save their report on a computer, although a printout and manual signature of the form are still required unless specifically approved otherwise by OGE.

Effect on Use of Alternative Reports and OGE Optional Form 450-A

Since 1992, various departments and agencies have developed, with OGE review/approval, alternative reporting formats such as certificates of no conflict for certain classes of employees. Other agencies provide for additional disclosures pursuant to independent organic statutes and in certain other circumstances when authorized by OGE. In 1997, OGE itself developed the new OGE Optional Form 450-A (Confidential Certificate of No New Interests (Executive Branch)) for possible agency and employee use in certain years, if applicable. That optional form continues in use at various agencies. However, the OGE Form 450 remains the uniform executive branch report form for most of those executive branch employees required by their agencies to report confidentially on their financial interests.

Reporting Individuals

The OGE Form 450 is to be filed by each reporting individual with the designated agency ethics official at the executive department or agency where he or she is or will be employed. Reporting individuals are regular employees whose positions have been designated by their agency under 5 CFR 2634.904 as requiring confidential financial disclosure in order to help avoid conflicts with their assigned responsibilities. Under that section, all special Government employees (SGE) are also generally required to file. Agencies may, if appropriate under the OGE regulation, exclude certain regular employees or SGEs as provided in 5 CFR 2634.905. (This citation appears as 5 CFR 2634.904(b) in the proposed rule issued concurrently with this notice.) Reports are normally required to be filed within 30 days of entering a covered position (or earlier if required by the agency concerned), and again annually if the employee serves for more than 60 days in the position.

Most of the persons who file this report are current executive branch Government employees at the time they complete their report. However, some filers are private citizens who are asked by their prospective agency to file a new entrant report prior to entering Government service in order to permit advance checking for any potential conflicts of interest and resolution thereof by agreement to recuse or divest, obtaining of a waiver, etc.

Reporting Burden

Based on OGE's annual agency ethics program questionnaire responses for 2002 through 2004, OGE estimates that an average of approximately 277,215 OGE Form 450 reports will be filed each year for the next three years throughout the executive branch. This estimate is based on the number of reports filed branchwide for 2002 through 2004 (272,755 in 2002, and 263,463 in 2003, and 295,426 in 2004) for a total of 831,644, with that number then divided by three and rounded, to give the projected annual average of 277,215 reports. Of these reports, OGE estimates that 7.6 percent, or some 21,068 per year, will be filed by private citizens. Private citizen filers are those potential (incoming) regular employees whose positions are designated for confidential disclosure filing as well as potential special Government employees whose agencies require that they file their new entrant reports prior to assuming Government responsibilities. No termination reports are required for the OGE Form 450.

Each filing is estimated to take an average of one and one-half hours to complete. This yields an annual reporting burden of 31,602 hours, an increase of 31,587 hours compared to 15 hours (OGE's current OMB inventory) for this information collection. The current burden hours account for private citizen filers whose reports were filed each year only with OGE itself. (In the past, the number of private citizens whose reports were filed each year with OGE itself was less than 10, but pursuant to 5 CFR 1320.3(c)(4)(i), the lower limit for this general regulatory-based requirement is set at 10 private persons. Thus, OGE reported the current annual burden of 15 hours.) The proposed estimate of burden hours includes private citizen reports filed with departments and agencies throughout the executive branch (including OGE).

Consideration of Comments

As noted, public comment is invited on the proposed modified OGE Form 450 as set forth in this notice. In accordance with the Paperwork Reduction Act of 1995 (44 U.S.C. chapter 35), public comments are invited specifically on the need for and practical utility of this proposed modified collection of information, the accuracy of OGE's burden estimate, the enhancement of quality, utility and clarity of the information collected, and the minimization of burden (including the use of information technology).

The Office of Government Ethics is planning to submit to OMB, after this notice and comment period, a modified OGE Form 450 for three-year extension of approval under the Paperwork Reduction Act. Comments received in response to this notice will be summarized for, and may be included with, OGE's future request for OMB paperwork approval for the proposed modified OGE Form 450. Any comments received will also become a matter of public record. After reviewing any comments and deciding on the proposed modifications to the OGE Form 450, OGE will publish a second paperwork notice in the Federal Register to inform the agencies and the public at the time it submits the request for OMB paperwork approval.

In addition, OGE invites comments on the changes to the OGE Form 450 that are intended to make it easier for filers to complete. Comments regarding the changes to the content of the form, i.e., the information to be reported, should be made in response to the proposed financial disclosure rule being published concurrently in the Federal Register with this notice.

Approved: August 5, 2005.
Marilyn L. Glynn,
General Counsel, Office of Government Ethics.

[FR Doc. 05-15926 Filed 8-11-05; 8:45 am]

BILLING CODE 6345-02-P